SMALL BUSINESS ADMINISTRATION

[Declaration of Disaster #3592]

Commonwealth of Virginia

As a result of the President's major disaster declaration on June 15, 2004, I find that Lee, Russell, and Tazewell Counties in the Commonwealth of Virginia constitute a disaster area due to damages caused by severe storms, tornadoes, and flooding occurring on May 24, 2004, and continuing. Applications for loans for physical damage as a result of this disaster may be filed until the close of business on August 16, 2004, and for economic injury until the close of business on March 15, 2005, at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Bland, Buchanan, Dickenson, Scott, Smyth, Washington, and Wise Counties in the Commonwealth of Virginia; Bell and Harlan Counties in the State of Kentucky; Claiborne and Hancock Counties in the State of Tennessee; and McDowell and Mercer Counties in the State of West Virginia.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 359211. For economic injury the number is 9ZJ300 for Virginia; 9ZJ400 for Kentucky; 9ZJ500 for Tennessee; and 9ZJ600 for West Virginia.

(Catalog of Federal Domestic Assistance Program Nos. 59002 and 59008.)
Dated: June 16, 2004.
Herbert L. Mitchell,
Associate Administrator for Disaster Assistance.

[FR Doc. 04-14085 Filed 6-21-04; 8:45 am]

BILLING CODE 8025-01-P